DEPARTMENT OF DEFENSE

Office of Secretary

[DOD-2007-OS-0080]

Privacy Act of 1974; Systems of Records

AGENCY: Defense Finance and Accounting Service.

ACTION: Notice to add a system of records.

SUMMARY: The Defense Finance and Accounting Service (DFAS) is proposing to add a system of records notice to its inventory of record systems subject to the Privacy Act of 1974 (5 U.S.C. 552a), as amended.

DATES: This action will be effective without further notice on September 12, 2007 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on August 6, 2007, to the House Committee on Oversight and Government Reform, the Senate Committee on Governmental Affairs, and the Office of Management and Budget (OMB) pursuant to paragraph 4c of Appendix I to OMB Circular No. A-130, “Federal Agency Responsibilities for Maintaining Records about Individuals,” dated December 12, 2000, 65 FR 239.

Dated: August 7, 2007.
C.R. Choate,
Alternate OSD Federal Register Liaison Officer, Department of Defense.

T7904

System name:

Standard Industrial Fund System (SIFS).

System location:

Defense Information Systems Agency (DISA), Defense Enterprise Computing Center (DECC)—St. Louis, 4300 Goodfellow Blvd., St. Louis, MO 63120-0012.

Categories of individuals covered by the system:

U.S. Army Active, Reserve and National Guard military members, DoD Army civilian employees assigned to the U.S. Army Materiel Command.

Categories of records in the system:

Individual's name, Social Security Number (SSN), rank, grade, man-hours, and job-order(s).

Authority for maintenance of the system:

5 U.S.C. 301, Departmental Regulations; Department of Defense Financial Management Regulation (DODFMR) 7000.14-R, Volume 4; 5 U.S.C. Sections 3511, 3512, and 3513; and E.O. 9397 (SSN).

Purpose(s):

To provide a financial report for the U.S. Army depots, arsenals, and ammunition plants. The records in this system will be use to compute and distribute employee labor cost and as a management tool for the U.S. Army.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘DoD Blanket Routine Uses’ published at the beginning of the DoD compilation of systems of records notices apply to this system.

Policies and practices for storing, retrieving, accessing, retaining, and disposing of records in the system:

Storage:

Paper records in file folders and electronic storage media.

Retrievability:

Individual's name and Social Security Number (SSN).

Safeguards:

Records are stored in a building protected by guards, controlled screening, use of visitor registers, electronic access, and/or locks. Access to records is limited to individuals who are properly screened and cleared on a need-to-know basis in the performance of their duties. User IDs and passwords are used to control access to the system data, and procedures are in place to deter and detect browsing and unauthorized access.

Retention and disposal:

Records are temporary in nature, deleted when actions are completed, superseded, obsolete, or no longer needed. Others are cut off at the end of the calendar year, and destroyed five years after the close of the quarter. Records are destroyed by degaussing, burning or shredding.

System manager(s) and address:

System Manager, Defense Finance and Accounting Service-Indianapolis, Information Technology Directorate, 8899 E. 56th Street, Indianapolis, IN 46249-2700.

Notification procedure:

Individuals seeking to determine whether information about them is contained in this record system should address written inquiries to the Defense Finance and Accounting Service, Freedom of Information/Privacy Act Program Manager, Corporate Communications and Legislative Liaison, 6760 E. Irvington Place, Denver, CO 80279-8000.

Requests should contain individual's full name, Social Security Number (SSN), current address, and telephone number.

Record access procedures:

Individuals seeking access to information about them contained in this system should address written inquiries to Defense Finance and Accounting Service, Freedom of Information/Privacy Act Program Manager, Corporate Communications and Legislative Liaison, 6760 E. Irvington Place, Denver, CO 80279-8000.

Requests should contain individual's full name, Social Security Number (SSN), current address, and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 6760 E. Irvington Place, Denver, CO 80279-8000.

Record source categories:

From the individual concerned, and U.S. Army.

Exemptions claimed for the system:

None.

[FR Doc. E7-15777 Filed 8-10-07; 8:45 am]

BILLING CODE 5001-06-P